DEPARTMENT OF ENERGY

Federal Energy Regulatory Commission

[Docket No. CP10-99-000]

Arlington Storage Company, LLC; Notice of Filing

March 30, 2010.

Take notice that on March 24, 2010, Arlington Storage Company, LLC (ASC), Two Brush Creek Boulevard, Kansas City, Missouri 64112, filed an application, pursuant to section 7(c) of the Natural Gas Act (NGA) and parts 157 and 284 of the Commission's Rules and Regulations, for a certificate of public convenience and necessity authorizing ASC to acquire and operate an existing underground natural gas storage facility located in Schuyler County, New York known as the Seneca Lake Facility. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The Seneca Lake Facility is currently owned and operated by New York State Electric & Gas Corporation (NYSEG). The facility consists of a salt storage cavern, a 7,761 horsepower compression station, and an 18.6 mile section of high pressure pipeline (West Lateral) connecting to the DTI system in the town of Big Flats, New York. The storage capacity of the Seneca Lake Facility is 2.34 Bcf and the facility has a working gas capacity of 1.45 Bcf. The Seneca Lake Facility can compress up to 72.5 MMcf/d during the injection cycle and up to 145 MMcf/d during the withdrawal cycle. ASC requests authority to charge market-based rates for the Project.

Any questions regarding the application are to be directed to William R. Moler, Senior Vice President, Midstream Operations, Arlington Storage Company, LLC, Two Brush Creek Boulevard, Suite 200, Kansas City, Missouri 64112; phone number (816) 329-5344 or by e-mail at bmoler@inergyservices.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: April 20, 2010.

Nathaniel J. Davis, Sr.,
Deputy Secretary.

[FR Doc. 2010-7822 Filed 4-6-10; 8:45 am]

BILLING CODE 6717-01-P